POSTAL SERVICE

39 CFR PART 111

Domestic Mail Manual; Incorporation by Reference

AGENCY: Postal Service™.

ACTION: Final rule.

SUMMARY: The Postal Service announces the issuance of DMM 300, dated July 5, 2011, of the Mailing Standards of the United States Postal Service, Domestic Mail Manual (DMM®), and its incorporation by reference in the Code of Federal Regulations.

DATES: Effective Date: This final rule is effective on August 9, 2011. The incorporation by reference of Issue 300, July 5, 2011, of the DMM is approved by the Director of the Federal Register as of August 9, 2011.

FOR FURTHER INFORMATION CONTACT: Lizbeth Dobbins (202) 268-3789.

SUPPLEMENTARY INFORMATION: The most recent Issue 300 of the Domestic Mail Manual (DMM) was issued on July 5, 2011. This Issue of the DMM contains all Postal Service domestic mailing standards. This issue continues to: (1) Increase the user's ability to find information; (2) increase confidence that users have found all the information they need; and (3) reduce the need to consult multiple chapters of the Manual to locate necessary information. Issue 300, dated July 5, 2011, set forth specific changes, such as new standards throughout the DMM to support the standards and mail preparation changes implemented since the May 11, 2009 version.

Changes to mailing standards will continue to be published through Federal Register notices and the Postal Bulletin, and will appear in the next online version available via the Postal Explorer® Web site at: http://pe.usps.com.

List of Subjects in 39 CFR Part 111

Administrative practice and procedure, Incorporation by reference.

In view of the considerations discussed above, the Postal Service hereby amends 39 CFR Part 111 as follows:

PART 111—GENERAL INFORMATION ON POSTAL SERVICE

1. The authority citation for 39 CFR Part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Amend § 111.3(f) by adding the following new entry at the end of the table: § 111.3 Amendments to the Mailing Standards of the United States Postal Service, Domestic Mail Manual.

* * * * *

(f) * * *

Transmittal letter for issue | Dated | Federal Register publication
* * * * * * *
Issue 300 | May 7, 2008 | 73 FR 25508
Issue 300 | May 11, 2009 | 75 FR 31702
DMM 300 | July 5, 2011 | [Insert FR citation for this Final Rule].

3. Amend § 111.4 by removing “June 4, 2010” and adding “August 9, 2011.”

Stanley F. Mires,
Chief Counsel, Legislative.

[FR Doc. 2011-20078 Filed 8-8-11; 8:45 am]

BILLING CODE 7710-P